DEPARTMENT OF THE INTERIOR

Bureau Of Land Management

[LLORP00000.L10200000.DF0000.14X. HAG14-0153]

Notice of Public Meeting for the John Day—Snake Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the John Day—Snake Resource Advisory Council (RAC) will meet as indicated below.

DATES: The John Day—Snake RAC will hold a public meeting Thursday, July 17, and Friday, July 18, 2014. The meeting will run from 12 p.m. to 5:00 p.m. on July 17th, and from 8 a.m. to 12:45 p.m. on July 18th. An agenda will be posted at http://www.blm.gov/or/rac/jdrac_meetingnotes.php prior to July 11, 2014.

ADDRESSES: The meeting will be held at the USFS Wallowa Whitman National Forest, La Grande Ranger District Office at 3502 Hwy. 30 in La Grande, Oregon.

FOR FURTHER INFORMATION CONTACT: Lisa Clark, Public Affairs Specialist, BLM Prineville District Office, 3050 NE. 3rd Street, Prineville, Oregon 97754, (541) 416-6864, or email lmclark@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The John Day-Snake RAC consists of 15 members chartered and appointed by the Secretary of the Interior. Their diverse perspectives are represented in commodity, conservation, and general interests. They provide advice to BLM and Forest Service resource managers regarding management plans and proposed resource actions on public land in central and eastern Oregon. Agenda items for the July 2014 meeting include: presentations on the release of the approved John Day Basin Resource Management Plan and the NEPA 2.0 Planning Strategy, a field tour of the Blue Mountains Cohesive Strategy Pilot Project, committee and member updates and any other matters that may reasonably come before the John Day-Snake RAC. This meeting is open to the public in its entirety; however, transportation during the field tour portion of the meeting will not be provided to members of the public. Information to be distributed to the John Day-Snake RAC is requested prior to the start of each meeting. A public comment period will be available on July 18, 2014, at 10 a.m. Unless otherwise approved by the John Day-Snake RAC Chair, the public comment period will last no longer than 30 minutes. Each speaker may address the John Day-Snake RAC for a maximum of 5 minutes. Meeting times and the duration scheduled for public comment periods may be extended or altered when the authorized representative considers it necessary to accommodate business and all who seek to be heard regarding matters before the John Day-Snake RAC.

Before including your address, phone number, email address, or other personal identifying information in your comments, please be aware that your entire comment—including your personal identifying information—may be made publicly available at any time. While you can ask us in your comment to withhold your personal identifying information from public review, we cannot guarantee that we will be able to do so.

Michael P. Campbell,
Associate Deputy State Director for Communications.

[FR Doc. 2014-15754 Filed 7-3-14; 8:45 am]

BILLING CODE 4310-33-P